DEPARTMENT OF COMMERCE

National Oceanic and Atmospheric Administration

Hydrographic Services Review Panel Meeting

AGENCY: National Ocean Service, National Oceanic and Atmospheric Administration (NOAA), Department of Commerce.

ACTION: Notice of public open meeting (via conference call).

SUMMARY: The Hydrographic Services Review Panel (HSRP) was established by the Secretary of Commerce to advise the Under Secretary of Commerce for Oceans and Atmosphere on matters related to the responsibilities and authorities set forth in section 303 of the Hydrographic Services Improvement Act of 1998, its amendments, and such other appropriate matters that the Under Secretary refers to the Panel for review and advice.

The purpose of the conference call is to allow Panel members to deliberate and vote on recommendations related to topics that were presented during a public meeting in Baltimore, Maryland, on April 14-15, 2009. Written public comments should be submitted to Captain Steven Barnum, Designated Federal Officer (DFO), by May 29, 2009.

Date and Time: The conference call will convene at 2 p.m. Eastern Daylight Time, June 8, 2009, and end by 3 p.m., if not earlier.

Public Participation: The meeting will be open to the public, with conference connection information below. It is recommended that interested public call in at 2 p.m. when the meeting starts because there is not a fixed time for public comment. The HSRP Chair will ask at large if there are any comments or questions from the public after the Panel discusses recommendations from the April 14-15, 2009 meeting. A final vote on recommendations will follow before the meeting ends.

FOR FURTHER INFORMATION CONTACT: Captain Steven Barnum, NOAA, Designated Federal Official (DFO), Office of Coast Survey, National Ocean Service (NOS), NOAA (N/CS), 1315 East West Highway, Silver Spring, Maryland 20910; Telephone: 301-713-2770, Fax: 301-713-4019; e-mail: Hydroservices.panel@noaa.gov or visit the NOAA HSRP Web site at http://nauticalcharts.noaa.gov/ocs/hsrp/hsrp.htm.

SUPPLEMENTARY INFORMATION: This conference call is available to the public through the following, toll free call-in number: (800) 799-9311 participant passcode: HSRP. Interested members of the public may call this number and listen to the meeting, and provide comment or ask questions when the HSRP Chair announces the Public Comment Period. Persons with hearing impairments may follow the proceedings by calling the Federal Relay Service [TTY (800) 877-8339, Voice (866) 377-8642 or Voice Carry-Over (877) 877-6280] and provide the Service with the conference call number and participant passcode. Be sure to notify the operator that it is a “Conference Call” before you provide call number and participant passcode.

Matters to be Considered: The Panel will deliberate and vote on recommendations to be presented to NOAA for improving NOAA's Hydrographic Services. Topic areas include: efficiency and coordination of national hydrographic survey standards and datums; appropriate funding and resources to ensure long-term success of restoration efforts; expansion of full Federal funding of the PORTS® program; continued improvements to the Integrated Ocean Observing System (IOOS); non-traditional supporters of NOAA's Hydrographic Services; and economic stimulus funding opportunities for hydrographic services and functions, including private contracting. Draft recommendations can be viewed at http://nauticalcharts.noaa.gov/ocs/hsrp/hsrpt.htm, or upon request from the DFO.

Dated: May 7, 2009.
Steven R. Barnum,
NOAA, Director, Office of Coast Survey, National Ocean Service, National Oceanic and Atmospheric Administration.

[FR Doc. E9-11394 Filed 5-14-09; 8:45 am]

BILLING CODE 3510-JE-P